ENVIRONMENTAL PROTECTION AGENCY

40 CFR Part 300

[EPA-HQ-SFUND-1983-0002; FRL-9978-05-Region 2]

National Oil and Hazardous Substances Pollution Contingency Plan; National Priorities List: Deletion of the Fulton Terminals Superfund Site

AGENCY: Environmental Protection Agency.

ACTION: Direct final rule.

SUMMARY: The Fulton Terminals Superfund site (Site), located in the City of Fulton, Oswego County, New York, originally consisted of an “On-Property” area and an “Off-Property” area. The On-Property area was deleted from the National Priorities List (NPL) in 2015. The Off-Property area remained on the NPL because residual groundwater contamination was still present. Because the groundwater in the Off-Property area has achieved the cleanup levels, the U.S. Environmental Protection Agency (EPA) is issuing this Notice of Deletion (NOD) of the Off-Property area from the NPL and requests public comments on this action.

DATES: This direct final deletion will be effective July 20, 2018 unless the EPA receives adverse comments by June 20, 2018. If adverse comments are received, the EPA will publish a timely withdrawal of this direct final NOD in the Federal Register, informing the public that the deletion will not take effect.

ADDRESSES: Submit your comments, identified by Docket ID No. EPA-HQ-SFUND-1983-0002, by one of the following methods:

• Website: http://www.regulations.gov. Follow the online instructions for submitting comments. Once submitted, comments cannot be edited or removed from regulations.gov. The EPA may publish any comment received to its public docket. Do not submit electronically any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e., on the web, cloud, or other file sharing system). For additional submission methods, the full EPA public comment policy, information about CBI or multimedia submissions, and general guidance on making effective comments, please visit http://www2.epa.gov/dockets/commenting-epa-dockets.

• Email: tsiamis.christos@epa.gov.

• Mail: To the attention of Christos Tsiamis, Remedial Project Manager, Emergency and Remedial Response Division, U.S. Environmental Protection Agency, Region 2, 290 Broadway, 20th Floor, New York, NY 10007-1866.

• Hand Delivery: Superfund Records Center, 290 Broadway, 18th Floor, New York, NY 10007-1866 (telephone: 212-637-4308). Such deliveries are only accepted during the Record Center's normal hours of operation (Monday to Friday from 9:00 a.m. to 5:00 p.m.). Special arrangements should be made for deliveries of boxed information.

Instructions: Direct your comments to Docket ID no. EPA-HQ-SFUND-1983-0002.

The EPA's policy is that all comments received will be included in the Docket without change and may be made available online at http://www.regulations.gov, including any personal information provided, unless the comment includes information claimed to be CBI or other information whose disclosure is restricted by statute. Do not submit information that you consider to be CBI or otherwise protected through http://www.regulations.gov or via email. The http://www.regulations.gov website is an “anonymous access” system, which means the EPA will not know your identity or contact information unless you provide it in the body of your comments. If you send comments to the EPA via email, your email address will be included as part of the comment that is placed in the Docket and made available on the website. If you submit electronic comments, the EPA recommends that you include your name and other contact information in the body of your comments and with any disks or CD-ROMs that you submit. If the EPA cannot read your comments because of technical difficulties and cannot contact you for clarification, the EPA may not be able to consider your comments fully. Electronic files should avoid the use of special characters and any form of encryption and should be free of any defects or viruses.

All documents in the Docket are listed in the http://www.regulations.gov index. Although listed in the index, some information is not publicly available, e.g., CBI or other information whose disclosure is restricted by statute. Certain other material, such as copyrighted material, will be publicly available only in hard copy. Publicly-available Docket materials can be obtained either electronically at http://www.regulations.gov or in hard copy at:

U.S. Environmental Protection Agency, Region 2, Superfund Records Center, 290 Broadway, 18th Floor, New York, NY 10007-1866, Phone: 212-637-4308, Hours: Monday to Friday from 9:00 a.m. to 5:00 p.m., and

Fulton Public Library, 160 South First Street, Fulton, NY 13069, Phone: 315-592-5159, Hours: Tue-Thu: 9:00 a.m.-7:00 p.m., Fri: 9:00 a.m.-5:00 p.m., Sat: 10:00 a.m.-3:00 p.m.

FOR FURTHER INFORMATION CONTACT: Christos Tsiamis, Remedial Project Manager, Emergency and Remedial Response Division, U.S. Environmental Protection Agency, 290 Broadway, 20th Floor, New York, NY 10007-1866, 212-637-4257, or tsiamis.christos@epa.gov.

SUPPLEMENTARY INFORMATION:

Table of Contents

I. Introduction

II. NPL Deletion Criteria

III. Deletion Procedures

IV. Basis for Site Deletion

V. Deletion Action

I. Introduction

The Site, located in the City of Fulton, Oswego County, New York, originally consisted of an “On-Property” area, an approximately 1.5-acre parcel of land bounded on the west by First Street, on the south by Shaw Street, on the east by New York State Route 481 and on the north by a warehouse, and an “Off-Property” area, defined by the area between the On-Property area's western property boundary to the Oswego River (approximately 50 feet).

The On-Property area was deleted from the NPL on April 6, 2015 (80 FR 5957). Because residual groundwater contamination (cis-1,2-dichloroethene [DCE] and vinyl chloride [VC]) was still present at the Off-Property area, the Off-Property area remained on the NPL, and groundwater monitoring and five-year reviews were still required for this area.

Groundwater samples were collected from the Off-Property area in July 2016, June 2017, and September 2017, and they were analyzed for cis-1,2-DCE and VC. The reported concentrations of these constituents detected in the analyses of these samples were all below the cleanup levels, with two of the three being “non-detect” (meaning concentrations were below the laboratory detection limits of 0.5 micrograms per liter [µg/L]). Based on an analysis of all the groundwater monitoring wells and associated contaminant-specific data, it was concluded that the groundwater remedy has achieved the cleanup levels selected for the Site, and data analysis indicates that the contaminant levels in the groundwater will remain below these standards. Therefore, the EPA has determined that the response action is completed and that no further groundwater monitoring or five-year reviews at the Site are necessary.

EPA Region 2 is publishing this direct final NOD of the Site from the NPL. The NPL constitutes appendix B of 40 CFR part 300, which is part of the NCP, which the EPA promulgated pursuant to section 105 of the Comprehensive Environmental Response, Compensation, and Liability Act (CERCLA) of 1980, as amended. The EPA maintains the NPL as the list of releases that appear to present a significant risk to public health, welfare, or the environment. The releases on the NPL may be the subject of remedial actions financed by the Hazardous Substance Superfund (Fund). As described in § 300.425(e)(3) of the NCP, a site deleted from the NPL remains eligible for Fund-financed remedial action if future conditions at the site warrant such actions.

The EPA and the State of New York, through the New York State Department of Environmental Conservation (NYSDEC), have determined that all appropriate response actions under CERCLA have been completed at the Site and that it no longer poses a threat to public health or the environment. Therefore, the EPA and NYSDEC have concluded that this NOD may proceed. However, this deletion does not preclude future actions under Superfund should future conditions warrant such action.

Section II of this document explains the criteria for deleting sites from the NPL. Section III discusses procedures that the EPA is using for this action. Section IV discusses the Off-Property area and demonstrates how it meets the deletion criteria. Section V discusses the EPA's action to delete the Off-Property area from the NPL unless adverse comments are received during the public comment period.

II. NPL Deletion Criteria

The NCP establishes the criteria that the EPA uses to delete sites from the NPL. In accordance with 40 CFR 300.425(e), sites may be deleted from the NPL where no response or no further response is appropriate. In making such a determination pursuant to 40 CFR 300.425(e), The EPA will consider, in consultation with the State, whether any of the following criteria have been met:

i. Responsible parties or other parties have implemented all appropriate response actions required;

ii. All appropriate Fund-financed responses under CERCLA have been implemented, and no further action by responsible parties is appropriate; or

iii. The remedial investigation (RI) has shown that the release of hazardous substances poses no significant threat to public health or the environment and, therefore, taking of remedial measures is not appropriate.

Pursuant to CERCLA section 121(c) and the NCP, the EPA conducts five-year reviews to ensure the continued protectiveness of remedial actions where hazardous substances, pollutants, or contaminants remain at a site above levels that allow for unlimited use and unrestricted exposure. The EPA conducts such five-year reviews even if a site is deleted from the NPL. The EPA may initiate further action to ensure continued protectiveness at a deleted site if new information becomes available that indicates it is appropriate. Whenever there is a significant release from a site deleted from the NPL, the deleted site may be restored to the NPL without application of the hazard ranking system.

III. Deletion Procedures

The following procedures apply to the deletion of the Off-Property area.

i. The EPA consulted with the State of New York prior to developing this direct final NOD and the Notice of Intent to Delete (NOID) also published today in the “Proposed Rules” section of the Federal Register.

ii. The EPA has provided the State with 30 working days for review of this notice and the parallel NOID prior to their publication today, and the State, through the NYSDEC, has concurred on the deletion of the Off-Property area from the NPL.

iii. Concurrent with the publication of this direct final NOD, a notice of the availability of the parallel NOID is being published in a major local newspaper, the Palladium-Times. The newspaper notice announces the 30-day public comment period concerning the NOID regarding the Off-Property area from the NPL.

iv. The EPA placed copies of documents supporting the proposed deletion in the Deletion Docket and made these items available for public inspection and copying at the Site information repositories identified above.

Deletion of a site from the NPL does not itself create, alter, or revoke any individual's rights or obligations. Deletion of a site from the NPL does not in any way alter the EPA's right to take enforcement actions, as appropriate. The NPL is designed primarily for informational purposes and to assist the EPA's management of sites. Section 300.425(e)(3) of the NCP states that the deletion of a site from the NPL does not preclude eligibility for further response actions should future conditions warrant such actions.

IV. Basis for Site Deletion

The following information provides the Agency's rationale for deleting the Off-Property area from the NPL.

Site Background and History

The Site (NYD980593099), located in the City of Fulton, Oswego County, New York, originally consisted of a 1.5-acre “On-Property” area, which is bounded on the west by First Street, on the south by Shaw Street, on the east by New York State Route 481, and on the north by a warehouse, and an “Off-Property” area, defined by the area between the On-Property area's western property boundary to the Oswego River (approximately 50 feet). The Site is in an industrial section of the City of Fulton. The Oswego River is used for recreation. Residences, city and county offices, and several businesses are located within a 1,500-foot radius of the Site.

From 1936 to 1960, the primary activity on the On-Property area was the manufacturing of roofing materials, which involved the storage of asphalt in above-ground tanks and fuel oil storage in underground tanks. From 1972 to 1977, the property was used by Fulton Terminals, Inc. as a staging and storage area for solvents and other materials that were scheduled for incineration at the Pollution Abatement Services facility located elsewhere in Oswego, New York. Operations at the Fulton Terminals facility resulted in the contamination of the groundwater, soil, and sediments with volatile organic compounds (VOCs).

From 1981 to 1983, Fulton Terminals, Inc. removed several tanks as part of a voluntary cleanup program. These activities ceased in 1983 after the facility operator was fined by the NYSDEC for the improper disposal of polychlorinated biphenyls. The Site was listed on the NPL in 1983.

The EPA and certain potentially responsible parties (PRPs) conducted removal activities at the Site in 1986, consisting of constructing a seven-foot perimeter fence around the Site, posting warning signs, removing two above-ground tanks and two underground tanks, removing approximately 300 cubic yards (CY) of visibly-contaminated soil and tar-like wastes, and excavating storm drains that were acting as a conduit for contaminated runoff to enter the Oswego River during storm events. An additional removal action was performed in 1990, which involved the construction of earthen barriers for the prevention of surface runoff from the Site.

Remedial Investigation and Feasibility Study Results

From 1985 to 1987, NYSDEC's contractor, URS Company, Inc., performed a remedial investigation/feasibility study (RI/FS) at the Site. The RI/FS report that was generated from these efforts was declared invalid by NYSDEC because of problems associated with the laboratory analyses. A revised RI/FS report, based on additional sampling, was prepared by NYSDEC's contractor in 1988. The EPA concluded, however, that the revised RI/FS report did not fully characterize the Site. Accordingly, the EPA performed a supplemental RI/FS. The conclusions set forth in the supplemental RI/FS, completed in 1989 by the EPA's contractor, Ebasco Services, Inc., indicated that various VOCs were present in the unsaturated soil (above the water table) and in the groundwater at the Site. An Endangerment Assessment for the Site, which was also completed in 1989, contained conclusions that minimal human health risks were associated with the existing Site conditions. However, the supplemental RI/FS process revealed that the leaching of VOCs from the contaminated on-site soil into the groundwater posed a risk to the environment.

Record of Decision Findings

On September 29, 1989, a Record of Decision (ROD) was signed, in which the EPA documented the selection of excavation and low temperature thermal desorption (LTTD) as the treatment method of approximately 4,000 CY of contaminated soils located above the water table, and pumping, air stripping, carbon adsorption, and reinjection as the treatment method for the contaminated groundwater. The remedy also included the implementation of institutional controls to prevent the utilization of the groundwater at the Site. The objective of the soil remedy was to reduce the concentrations of VOCs in the soils to levels that would no longer cause the groundwater quality to exceed groundwater standards because of percolation of precipitation through the unsaturated soils.

Remedy Implementation

A consent decree was signed by the PRPs in 1990, in which they agreed to design and implement the remedy called for in the ROD. The consent decree became effective in 1991.

Soil Remediation

The remedial design (RD) of the soil excavation and treatment was initiated by Blasland, Bouck & Lee, Inc. (BBL), the contractor for the PRPs, in 1991.

Pre-RD sampling revealed the presence of a significant amount of contamination in the deep soil (from the water table down to bedrock). Because the contaminated soil below the water table would continue to leach contaminants to the groundwater, the EPA concluded that remediating this soil would be beneficial to the long-term groundwater cleanup.

Remedial alternatives to address the contaminated soils below the water table were evaluated in a focused feasibility study (FFS) completed by BBL in 1994. The EPA determined that specialized methods for stabilizing the deep excavation area would be required for the removal of the contaminated soils because of the excavation depth, the need for control of groundwater infiltration into the excavation area, and the proximity of the Site to the Oswego River.

Based on the results of the pre-RD sampling effort and the findings of the FFS, the EPA modified the soil remedy in a 1994 Explanation of Significant Differences (ESD). The ESD called for the excavation of the VOC-contaminated soils in the saturated zone (below the water table), followed by the treatment of the excavated soils by LTTD.

Following the completion of the plans and specifications related to the soil remedy in 1995, BBL initiated construction of the soil remedy. Because of the proximity of the Site to the Oswego River, a “freeze wall” was used, which is a construction process whereby the ground is frozen at depth to allow the dry excavation of contaminated soils below the water table. The excavation, treatment, and backfilling were completed in 1996. The total amount of contaminated source material that was remediated was 10,200 CY. Post-excavation soil sampling results indicated that residual levels of VOCs in soils were well below the target cleanup levels. A Remedial Action Report documenting the completion of the soil remedy was approved by the EPA on September 30, 1996.

Groundwater Remediation

The groundwater remedy called for in the ROD required the reduction of VOC concentrations to federal Maximum Contaminant Levels (MCLs) and New York State's groundwater quality standards by pumping the groundwater from the saturated sand and gravel zone underlying the Site, treating the groundwater by air stripping and carbon adsorption, and reinjecting the water into the saturated sand and gravel zone.

The design of the groundwater remediation was performed from 1991 to 1994. Initiation of the groundwater remedial action was, however, postponed until all the soil activities at the Site were completed. At that time, a horizontal extraction well system consisting of a gallery of perforated piping and a collection manhole was installed at the base of the excavation. Given the overall effectiveness of the soil remedy, it was determined that groundwater standards could be achieved within a relatively short time frame if the groundwater extraction could be commenced immediately. Utilizing a mobile treatment system, an expedited pumping of the contaminated groundwater commenced on February 11, 1997. The operation of the groundwater extraction and treatment system (including groundwater reinjection/surface water discharge), as well as weekly influent/effluent monitoring conducted during its operation, was performed by Clean Harbors on behalf of the PRPs. The system was shut down on May 30, 1997, when sampling data of the influent indicated that the objectives of the expedited pumping program had been achieved. During the 12-week operation period, approximately 8.8 million gallons of contaminated groundwater were extracted and treated. Subsequent groundwater sampling showed that MCLs had been achieved in the source area, and groundwater modeling indicated that the Off-Property VOCs would naturally attenuate in a “reasonable” time frame (i.e., within 20 to 30 years). Residual subsurface ice from the freeze wall precluded an accurate evaluation of the groundwater remedy performance (the two downgradient monitoring wells were frozen). Following the forced thaw of the freeze wall via steam injection by the PRPs in 1998, the temperature of the groundwater and the concentrations of contaminants were monitored. Groundwater samples collected in 1999 indicated that the freeze wall was no longer intact (i.e., the two monitoring wells were free of ice) and that the contamination levels in these wells were decreasing. Completion of the groundwater operation and transition to long-term groundwater monitoring was documented in the September 30, 1999 Remedial Action Report.

Institutional Controls

The remedy included the implementation of institutional controls to prevent the utilization of the groundwater at the Site. A deed restriction prohibiting the installation of wells at the Site was filed with the Oswego County Clerk's office on July 31, 2009. Groundwater has been remediated to attain drinking water standards. Therefore, this institutional control is no longer a necessary component of the CERCLA response action.

Deletion of On-Property Area of Site

On April 6, 2015, the On-Property area was deleted from the NPL. This deletion addressed all media for this area, namely surface soils, subsurface soils, and groundwater. Because residual groundwater contamination remained in the Off-Property area, groundwater monitoring and five-year reviews were still required for the Off-Property area. Information supporting the partial deletion of the On-Property area can be found in the Federal Register (80 FR 5957).

Five-Year Review

Five-year reviews of the Site were performed in September 2004, June 2009, and May 2014. In the last five-year review, the EPA concluded that the implemented remedy is protective of human health and the environment.

Based on the determination that the remedy's cleanup levels for groundwater have been achieved, no further five-year reviews are warranted because the Site has achieved unlimited use/unrestricted exposure. This determination is documented in a December 21, 2017 memorandum from John Prince, Acting Director, Emergency and Remedial Response Division, EPA Region 2, to James Woolford, Director, Office of Superfund Remediation and Technology Innovation, entitled Fulton Terminals Superfund Site (EPA ID# NYD980593099)—Cessation of Five-Year Reviews.

Community Involvement

Public participation activities for the Site have been satisfied as required pursuant to CERCLA sections 113(k) and 117, 42 U.S.C. 9613(k) and 9617. As part of the remedy selection process, the public was invited to comment on the proposed remedy. All other documents and information that the EPA relied on or considered in recommending this deletion are available for the public to review at the information repositories identified above.

Determination That the Site Meets the Criteria for Deletion From the NCP

For groundwater restoration remedies, the EPA recommends in OSWER 9355.0-129, Guidance for Evaluating Completion of Groundwater Restoration Remedial Actions, that contaminant of concern (COC) concentrations be evaluated on a monitoring well-by-monitoring well basis to assess whether aquifer restoration is complete (i.e., that the groundwater has met and will continue to meet cleanup levels for all COCs in the future). The guidance document includes a recommendation that sufficient data be collected and evaluated using appropriate visual or statistical methods to assist in this determination.

After completion of the groundwater portion of the remedy in 1999, a sampling and analysis plan to assess the effectiveness of the groundwater remedy was completed. The groundwater monitoring well network included three source-area (i.e., On-Property) monitoring wells and five Off-Property monitoring wells. The initial plan required three years of post-remedy groundwater monitoring (March 2000 through September 2002) to verify the successful performance of the groundwater remedy. In October 2003, the groundwater long-term monitoring was extended for an additional three years.

Groundwater samples collected from 2000-2004 showed “non-detect” concentrations for all the groundwater COCs in six of the eight monitoring wells (two Off-Property area wells still had elevated concentrations of trichloroethylene [TCE], cis-1,2-DCE, and VC). As a result, sampling at the six monitoring wells was discontinued and they were properly abandoned in 2004.

As of 2004, the two remaining monitoring wells demonstrated attainment of the groundwater related to the TCE cleanup level; however, cis-1,2-DCE and VC concentrations remained above their respective cleanup levels, though concentration trends were decreasing. As a result, biannual sampling continued at these two monitoring wells.

In 2006, it was determined that the groundwater had reached cleanup levels for multiple sampling events in one of the two remaining Off-Property area monitoring wells. As such, sampling at this well was discontinued in 2006. Through 2009, biannual sampling continued. Groundwater in the one remaining monitoring well continued to show cis-1,2- DCE and VC above their respective cleanup levels. It was determined that groundwater sampling should continue. Samples were collected from 2009 to 2017 and were used to demonstrate attainment, as discussed below.

Cis-1,2-DCE Attainment Analysis

Five data points from 2013 to 2017 were analyzed using both a visual and statistical analysis. Specific to the groundwater meeting the cis-1,2-DCE cleanup level of 5 µg/L, a statistical analysis was conducted, and the EPA concluded that the mean concentration was 3.1 µg/L; however, much like the VC data, because of statistical variation, the 95 percent upper confidence limit on the mean was 14.1 µg/L. Although the upper confidence limit was three times the cleanup level, the last three data points collected in 2016 and 2017 were all below the cleanup level, with two of the three being “non-detect” (below the laboratory detection limit of 0.5 µg/L) As such, it was determined that the data provided assurance that the cleanup level for cis-1,2-DCE had been met in this monitoring well.

The data was also evaluated using a time-dependent trend. The trend for the five data points had a statistically significant decreasing sloping providing assurance that the groundwater will continue to meet the cleanup level.

VC Attainment Analysis

Six data points from 2009 through 2017 were analyzed using both a visual and statistical analysis. Specific to the groundwater meeting the VC cleanup level of 2 µg/L, a statistical analysis was conducted for the six data points, and the EPA concluded that the mean concentration was 1.2 µg/L; however, because of statistical variation, the 95 percent upper confidence limit on the mean was 2.8 µg/L, slightly above the cleanup level of 2 µg/L. Although the upper confidence limit was slightly above 2 µg/L, the last three data points collected in 2016 and 2017 are all below the cleanup level, with two of the three being “non-detect” (below the laboratory detection limit of 0.5 µg/L). As such, it was determined that the data provided assurance that the cleanup level for VC had been met in this monitoring well.

The data was also evaluated using a time-dependent trend. The trend for the six data points had a statistically significant decreasing slope providing assurance that the groundwater will continue to meet the cleanup level.

Conclusion

Based on this analysis of all groundwater monitoring wells and associated contaminant-specific data, it has been concluded that the groundwater remedy has achieved the remedial cleanup levels, and data analysis indicates that the groundwater will remain below these standards. Therefore, the groundwater restoration remedial action is complete in accordance with the remedy, and further groundwater monitoring at the Site is no longer necessary.

All the completion requirements for the Off-Property area have been met, as described in the December 28, 2017 Final Close-Out Report. The State of New York, in a March 7, 2018 letter, concurred with the proposed deletion of the Site from the NPL.

The NCP specifies that the EPA may delete a site from the NPL if “responsible parties or other persons have implemented all appropriate response actions required.” 40 CFR 300.425(e)(1)(i). The EPA, with the concurrence of the State of New York, through NYSDEC, believes that this criterion for the deletion of the Site has been met in that the Site no longer poses a threat to public health or the environment. Consequently, the EPA is deleting the Site from the NPL. Documents supporting this action are available in the Site files.

V. Deletion Action

The EPA, with the concurrence of the State of New York through NYSDEC, has determined that all appropriate responses under CERCLA have been completed at the Site and that it no longer poses a threat to public health or the environment. Therefore, the EPA is deleting the Site from the NPL.

The Site is now suitable for unlimited use and unrestricted exposure. Therefore, no further five-year reviews will be conducted for this Site. The deletion does not preclude future action under CERCLA. Because the EPA considers this action to be noncontroversial and routine, the EPA is taking this action without prior publication. This action will be effective July 20, 2018 unless the EPA receives adverse comments by June 20, 2018. If adverse comments are received within the 30-day public comment period of this action, the EPA will publish a timely withdrawal of this direct final NOD before the effective date of the deletion, and the deletion will not take effect. The EPA will prepare a response to comments and continue with the deletion process based on the NOID and the comments received. In such a case, there will be no additional opportunity to comment.

List of Subjects in 40 CFR Part 300

Environmental protection, Air pollution control, Chemicals, Hazardous substances, Hazardous waste, Intergovernmental relations, Penalties, Reporting and recordkeeping requirements, Superfund, Water pollution control, Water supply.

Dated: April 19, 2018.
Peter D. Lopez,
Regional Administrator, EPA, Region 2.

For the reasons set out in this document, 40 CFR part 300 is amended as follows:

PART 300—NATIONAL OIL AND HAZARDOUS SUBSTANCES POLLUTION CONTINGENCY PLAN

1. The authority citation for part 300 continues to read as follows:

Authority: 33 U.S.C. 1321(d); 42 U.S.C. 9601-9657; E.O. 13626, 77 FR 56749, 3 CFR, 2013 Comp., p. 306; E.O. 12777, 56 FR 54757, 3 CFR, 1991 Comp., p. 351; E.O. 12580, 52 FR 2923, 3 CFR, 1987 Comp., p. 193.

Appendix B to Part 300 [Amended]

2. Table 1 of appendix B to part 300 is amended by removing the listing under New York for “Fulton Terminals”.

[FR Doc. 2018-10798 Filed 5-18-18; 8:45 am]

BILLING CODE 6560-50-P